INTERNATIONAL TRADE COMMISSION

[Investigation No. 731-TA-747 (Final)]

Fresh Tomatoes From Mexico

AGENCY: United States International Trade Commission.

ACTION: Cancellation of hearing.

SUMMARY: On September 5, 2002, the Commission published notice in the Federal Register of the scheduling of its investigation, including a hearing to be held on December 16, 2002. On December 4, 2002, the Department of Commerce and Mexican tomato growers/exporters accounting for substantially all exports of fresh tomatoes from Mexico to the United States signed a suspension agreement suspending the antidumping investigation on fresh tomatoes from Mexico. The agreement will take effect upon its publication in the Federal Register. Accordingly, the Commission gives notice that its hearing in this investigation is cancelled. The Commission unanimously determined that no earlier announcement of this cancellation was possible.

EFFECTIVE DATE: December 11, 2002.

FOR FURTHER INFORMATION CONTACT: Elizabeth Haines (202-205-3200), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS-ON-LINE) at http://dockets.usitc.gov/eol/public.

Authority: This hearing is being cancelled under authority of title VII of the Tariff Act of 1930; this notice is published pursuant to sections 207.21 and 207.40 of the Commission's rules (19 CFR 207.21 and 207.40).

By order of the Commission.
Issued: December 12, 2002.
Marilyn R. Abbott,
Secretary to the Commission.

[FR Doc. 02-31772 Filed 12-17-02; 8:45 am]

BILLING CODE 7020-02-P